DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent application.

Enhanced HIV-1 Vaccine Cytotoxic T Cell Epitope From Conserved Region of HIV-1 Reverse Transcriptase

Jay Berzofsky, Takahiro Okazaki (NCI).

U.S. Provisional Application No. 60/459,507 filed 31 Mar 2003 (DHHS Reference No. E-044-2003/0-US-01).

Licensing Contact: Michael Ambrose; 301/594-6565; ambrosem@mail.nih.gov.

Polypeptides derived from the HIV-1 RT Catalytic site. Peptides are modified by replacement of certain key amino acid residues to increase binding to HLA-A2, the most common human class I HLA molecule. Such modified peptides are more immunogenic and can be used for further development of second-generation vaccines, therapeutics or diagnostic reagents. DNA encoding said modified polypeptides can be used as vaccines (naked DNA, bacterial or viral vector constructs).

Methods and Compositions for Selectively Enriching Microbes

Michael A. Grant (FDA/ORA).

U.S. Provisional Application No. 60/435,639 filed 20 Dec 2002 (DHHS Reference No. E-228-2002/0-US-01).

Licensing Contact: Michael Ambrose; 301/594-6565; ambrosem@mail.nih.gov.

The described technology provides for the methods, reagents and kits for the specific enrichment of microbes for further identification and diagnosis with particular emphasis on E. coli O157:H7 and other E. coli.

The technology details a 2-step process in which the primary sample is held under acid conditions to inhibit or kill competitor microbes within the sample. The acidic conditions can also contain selective agents such as phage or nutrient supplements for further selectivity. After a predetermined time, the sample is then incubated under unrestricted growth conditions for the enrichment of the remaining microbes. These are then carried through for further identification and potential diagnosis.

The technology can be used to selectively enrich for potential medically important bacteria, especially E. coli O157:H7, other pathogenic E. coli, Shigella, and other species.

Dated: October 24, 2003.
Steven M. Ferguson,
Director, Division of Technology Development and Transfer, Office of Technology Transfer, National Institutes of Health.

[FR Doc. 03-28059 Filed 11-6-03; 8:45 am]

BILLING CODE 4140-01-P